DEPARTMENT OF ENERGY

Federal Energy Regulatory Commission

[Project No. 14357-001]

San Jose Water Company; Notice of Effectiveness of Surrender

On May 24, 2012, the Commission issued an Order Granting Exemption from Licensing (Conduit) ¹ to the San Jose Water Company (SJWC), for the Hostetter Turnout Pressure Reducing Valve Modernization Project, FERC No. 14357. The unconstructed project would have been located in parallel with the Hostetter Turnout Pressure Reduction Facility (Hostetter Turnout Station) in San Jose, California.

¹ San Jose Water Company, 139 FERC ¶ 62,153 (2012).

On May 07, 2014, SJWC filed an application with the Commission to surrender the exemption. SJWC says the underground vault design shows that the project would be partially located on private property, outside of the public right-of-way. Due to this issue SJWC has decided not to move forward with construction of the project, citing economic difficulty.

Accordingly, the Commission accepts SJWC's surrender of its exemption from licensing, effective 30 days from the date of this notice, at the close of business on Friday, September 26, 2014. No license, exemption, or preliminary permit applications for the project site may be filed until Monday, September 29, 2014.

Dated: August 27, 2014.
Kimberly D. Bose,
Secretary.

[FR Doc. 2014-21162 Filed 9-4-14; 8:45 am]

BILLING CODE 6717-01-P